DEPARTMENT OF THE INTERIOR

Geological Survey

[GX24EE000101100]

Public Meeting of the National Geospatial Advisory Committee

AGENCY: U.S. Geological Survey, Department of the Interior.

ACTION: Notice of public meeting.

SUMMARY: In accordance with the Federal Advisory Committee Act (FACA) of 1972, the U.S. Geological Survey (USGS) is publishing this notice to announce that a Federal Advisory Committee meeting of the National Geospatial Advisory Committee (NGAC) will take place and is open to members of the public.

DATES: The meeting will be held as a webinar/teleconference on Monday, December 4, 2023, from 11:00 a.m. to 5:00 p.m. Eastern Standard Time.

ADDRESSES: The meeting will be held online and via teleconference. Instructions for registration to attend the meeting will be posted at www.fgdc.gov/ngac. Comments can be sent by email to gs-faca@usgs.gov.

FOR FURTHER INFORMATION CONTACT: Mr. John Mahoney, Federal Geographic Data Committee (FGDC), USGS, by mail at 909 First Avenue, Room 703, Seattle, WA 98104; by email at jmahoney@usgs.gov; or by telephone at (206) 375-2565.

SUPPLEMENTARY INFORMATION: This meeting is being held consistent with the provisions of the FACA (5 U.S.C. Ch. 10), the Government in the Sunshine Act of 1976 (5 U.S.C. 552B, as amended), and 41 CFR part 102-3.

Purpose of the Meeting: The NGAC provides advice and recommendations related to management of Federal and national geospatial programs, the development of the National Spatial Data Infrastructure (NSDI), and the implementation of the Geospatial Data Act of 2018 (GDA) and Office of Management and Budget (OMB) Circular A-16. The NGAC reviews and comments on geospatial policy and management issues and provides a forum to convey views representative of non-federal stakeholders in the geospatial community. The NGAC is one of the primary ways that the FGDC collaborates with its broad network of partners. Additional information about the NGAC is available at: www.fgdc.gov/ngac.

Agenda Topics:

—FGDC Update

—Landsat Advisory Group

—3D Elevation Program (3DEP)

—GDA

—NSDI Strategic Planning

—Findable, Accessible, Interoperable, Reusable (FAIR) Data

—Public Comment

Meeting Accessibility/Special Accommodations: The meeting is open to the public. Members of the public wishing to attend the meeting should visit www.fgdc.gov/ngac or contact Mr. John Mahoney (see FOR FURTHER INFORMATION CONTACT). Webinar/conference line instructions will be provided to registered attendees prior to the meeting.

Please make requests in advance for sign language interpreter services, assistive listening devices, or other reasonable accommodations. We ask that you contact the person listed in the FOR FURTHER INFORMATION CONTACT section of this notice at least seven (7) business days prior to the meeting to give the Department of the Interior sufficient time to process your request. All reasonable accommodation requests are managed on a case-by-case basis.

Individuals in the United States who are deaf, blind, hard of hearing, or have a speech disability may dial 711 (TTY, TDD, or TeleBraille) to access telecommunications relay services. Individuals outside the United States should use the relay services offered within their country to make international calls to the point-of-contact in the United States.

Public Disclosure of Comments: There will be an opportunity for public comment during the meeting. Depending on the number of people who wish to speak and the time available, the time for individual comments may be limited. Written comments may also be sent to the NGAC for consideration. To allow for full consideration of information by NGAC members, written comments must be provided to John Mahoney (see FOR FURTHER INFORMATION CONTACT) at least three (3) business days prior to the meeting. Any written comments received will be provided to NGAC members before the meeting.

Before including your address, phone number, email address, or other personally identifiable information (PII) in your comment, you should be aware that your entire comment—including your PII—may be made publicly available at any time. While you may ask us in your comment to withhold your PII from public review, we cannot guarantee that we will be able to do so.

Authority: 5 U.S.C. Ch. 10.

Kenneth Shaffer,
Deputy Executive Director, Federal Geographic Data Committee.

[FR Doc. 2023-25246 Filed 11-15-23; 8:45 am]

BILLING CODE 4338-11-P